DEPARTMENT OF VETERANS AFFAIRS

[OMB Control No. 2900-0847]

Agency Information Collection Activity Under OMB Review: Submission of School Catalog to the State Approving Agency

AGENCY: Veterans Benefits Administration, Department of Veterans Affairs.

ACTION: Notice.

SUMMARY: In compliance with the Paperwork Reduction Act (PRA) of 1995 (44 U.S.C. 3501-3521), this notice announces that the Office of Policy and Planning (OPP), Department of Veterans Affairs, will submit the collection of information abstracted below to the Office of Management and Budget (OMB) for review and comment. The PRA submission describes the nature of the information collection and its expected cost and burden; it includes the actual data collection instrument. The Federal Register Notice with a 60-day comment period soliciting comments on this collection of information was published on November 3, 2016, Vol. 81, page 76699.

DATES: Comments must be submitted on or before February 27, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0847” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0847.”

SUPPLEMENTARY INFORMATION:

Title: Veterans Employment Pay For Success (VEPFS), Grant Program Application.

OMB Control Number: 2900-0847.

Type of Review: Extension of an approved collection.

Abstract: Section 3119 of title 38, United States Code, authorizes the Secretary of Veterans Affairs to make grants to or contract with public or nonprofit agencies, including institutions of higher learning, to advance “the knowledge, methods, techniques, and resources available for use in rehabilitation programs for veterans.” Section 3119 specifically authorizes the Secretary to make grants to such agencies to conduct or provide support for projects which are “designed to increase the resources and potential for accomplishing the rehabilitation of disabled veterans.” VA has codified these provisions in its regulations at 38 CFR 21.390 Rehabilitation research and special projects. The purpose of the VEPFS program is to provide one or more grants to fund Outcomes Payments for one or more PFS projects that seek to improve employment outcomes for Veterans with a Service-connected Mental Health Disability.

Affected Public: Individuals or households.

Estimated Annual Burden: 2000 hours.

Estimated Average Burden Per Respondent: 80 minutes.

Frequency of Response: On occasion.

Estimated Number of Respondents: 25.

By direction of the Secretary.
Cynthia Harvey-Pryor,
VA Clearance Officer, Office of Privacy and Records Management, Department of Veterans Affairs.

[FR Doc. 2017-01743 Filed 1-25-17; 8:45 am]

BILLING CODE 8320-01-P